DEPARTMENT OF THE INTERIOR

Bureau of Land Management

[WY-100-1430-ES; WYW-23933, WYW-163849, WYW-163855]

Notice of Realty Action; Recreation and Public Purposes Act Classification; WY

AGENCY: Bureau of Land Management, Interior.

ACTION: Notice of Realty Action.

SUMMARY: The Bureau of Land Management (BLM) has examined and found suitable for classification for lease or conveyance under the provisions of the Recreation and Public Purposes Act three parcels of public lands located near Cora, Pinedale and Marbleton, all located in Sublette County, Wyoming. Sublette County intends to use the lands for the existing snowmobile track, a public golf course, and to expand the County road maintenance facilities.

DATES: Interested persons may submit written comments to the BLM at the address stated below. Comments must be received by not later than October 10, 2006.

ADDRESSES: Bureau of Land Management, Pinedale Field Office, 432 East Mill Street, P.O. Box 768, Pinedale, Wyoming 82941.

FOR FURTHER INFORMATION CONTACT: Bill Wadsworth, Realty Specialist, at the address above or at 307-367-5341.

SUPPLEMENTARY INFORMATION: The following described public land in Sublette County, Wyoming, has been examined and found suitable for classification for lease and/or conveyance under the provisions of the Recreation and Public Purposes (R&PP) Act, as amended (43 U.S.C. 869 et seq.) and is hereby classified accordingly:

WYW-23933—Cora, WY—Snowmobile Track currently under lease to Sublette County to be classified for conveyance:

Sixth Principal Meridian, Sublette County, Wyoming.

T. 35 N., R. 110 W.,

Sec. 33, E½SW¼.

The land described contains 80 acres.

WYW-163849—Pinedale, WY—Public Golf Course to be classified for lease/conveyance:

Sixth Principal Meridian, Sublette County, Wyoming.

T. 30 N., R. 109 W.,

Sec. 5, SW¼, SW¼SE¼;

Sec. 6, E½SE¼.

The land described contains 280 acres.

WYW-163855—Marbleton, WY—County Road Maintenance Facility Expansion to be classified for lease/conveyance:

Sixth Principal Meridian, Sublette County, Wyoming.

T. 30 N., R. 111 W.,

Sec. 17, NE¼SE¼.

The land described contains 40 acres.

In accordance with the R&PP Act, Sublette County has filed R&PP petition(s)/application(s) and plans of development in which it proposes to use the above described public lands for a snowmobile track, a public golf course, and for the expansion of County road maintenance facilities. The lands are not needed for Federal purposes. Lease or conveyance pursuant to the R&PP Act is consistent with the Pinedale Resource Management Plan, dated December 12, 1988, and would be in the public interest.

The lease(s)/conveyance(s), when issued, will be subject to the following terms, conditions, and reservations:

1. Provisions of the R&PP Act and to all applicable regulations, including but not limited to the regulations stated in 43 CFR Part 2740, and policy and guidance of the Secretary of the Interior.

2. Reservation of a right-of-way to the United States for ditches and canals pursuant to the Act of August 30, 1890, 43 U.S.C. 945.

3. All minerals shall be reserved to the United States, together with the right to prospect for, mine and remove the minerals under applicable laws and regulations established by the Secretary of the Interior.

4. Provided, that the land conveyed shall revert to the United States upon a finding, and after notice and opportunity for a hearing, that the patentee has not substantially developed the lands in accordance with the approved plan of development on or before the date five years after the date of conveyance. No portion of the land shall under any circumstance revert to the United States if any such portion has been used for solid waste disposal or for any other purpose which may result in the disposal, placement, or release of any hazardous substance.

5. If, at any time, the patentee validly transfers to another party ownership of any portion of the land not used for the purpose(s) specified in the application and the plan of development, the patentee shall pay the Bureau of Land Management the fair market value, as determined by the authorized officer, of the transferred portion as of the date of transfer, including the value of any improvements thereon.

6. All valid existing rights including but not limited to those documented on the official public land records at the time of lease/patent issuance. Detailed information concerning the proposed actions, including but not limited to documentation relating to compliance with applicable environmental and cultural resource laws, is available for review at the BLM, Pinedale Field Office, 432 East Mill Street, P.O. Box 768, Pinedale, WY 82941, telephone: 307-367-5341.

On August 23, 2006 the above described lands will be segregated from all other forms of appropriation under the public land laws, including the general mining laws, except for lease or conveyance under the R&PP Act and leasing under the mineral leasing laws. Interested parties may submit written comments regarding the proposed lease(s)/conveyance(s) or classification(s) of the lands to the Field Manager, Pinedale Field Office, at the address stated above in this notice for that purpose. Comments must be received by not later than October 10, 2006.

Classification Comments: Interested parties may submit comments involving the suitability of the lands for conveyance for the snowmobile track, and for lease/conveyance for a public golf course and expanded County road maintenance facilities. Comments on the classification(s) are restricted to whether the land is physically suited for the proposal(s), whether the use will maximize the future use or uses of the land, whether the use is consistent with local planning and zoning, and if the use is consistent with State and Federal programs.

Application Comments: Interested parties may submit comments regarding the specific use proposed in the application(s) and plan(s) of development, whether the BLM followed proper administrative procedures in reaching the decision; or any other factor not directly related to the suitability of the lands for a snowmobile track, a public golf course, and expanded County road maintenance facilities.

Comments, including names and street addresses of respondents, will be available for public review at the BLM Pinedale Field Office, (address above), during regular business hours, Monday through Friday, except holidays. Individual respondents may request confidentiality. If you wish to withhold your name or address from public review or from disclosure under the Freedom of Information Act, you must state this prominently at the beginning of your comments. Such requests will be honored to the extent allowed by the law. All submissions from organizations or businesses, and from individuals identifying themselves as representatives or officials of organizations or businesses, will be made available for public inspection in their entirety.

Any adverse comments will be reviewed by the State Director, who may sustain, vacate, or modify this realty action. In the absence of any adverse comments, the classification will become effective 60 days after August 23, 2006.

(Authority: 43 CFR 2741.5)

Dated: May 17, 2006.
Dennis R. Stenger,
Field Manager.

[FR Doc. E6-13927 Filed 8-22-06; 8:45 am]

BILLING CODE 4310-22-P